SECURITIES AND EXCHANGE COMMISSION

[File No. 500-1]

In the Matter of Gold Horse International, Inc.; Order of Suspension of Trading

August 27, 2014.

It appears to the Securities and Exchange Commission that there is a lack of current and accurate information concerning the securities of Gold Horse International, Inc. because it has not filed any periodic reports since the period ended March 31, 2012.

The Commission is of the opinion that the public interest and the protection of investors require a suspension of trading in the securities of the above-listed company. Therefore, it is ordered, pursuant to Section 12(k) of the Securities Exchange Act of 1934, that trading in the securities of the above-listed company is suspended for the period from 9:30 a.m. EDT on August 27, 2014, through 11:59 p.m. EDT on September 10, 2014.

By the Commission.
Jill M. Peterson,
Assistant Secretary.

[FR Doc. 2014-20736 Filed 8-27-14; 4:15 pm]

BILLING CODE 8011-01-P